DEPARTMENT OF THE INTERIOR

National Park Service

[NPS-WASO-NRNHL-10685: 2200-3200-665]

National Register of Historic Places; Notification of Pending Nominations and Related Actions

Nominations for the following properties being considered for listing or related actions in the National Register were received by the National Park Service before June 16, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by July 30, 2012. Before including your address, phone number, email address, or other personal identifying information in your comment, you should be aware that your entire comment—including your personal identifying information—may be made publicly available at any time. While you can ask us in your comment to withhold your personal identifying information from public review, we cannot guarantee that we will be able to do so.

Dated: June 22, 2012.
J. Paul Loether,
Chief, National Register of Historic Places/National Historic Landmarks Program.

CALIFORNIA

San Bernardino County

Auerbacher Home, 121 Sierra Vista Dr., Redlands, 12000442

San Diego County

Lafayette Hotel, 2223 El Cajon Blvd., San Diego, 12000443

KENTUCKY

Barren County

Bybee House, Address Restricted, Glasgow, 12000444

Bath County

Smith, “Raccoon” John, House, Address Restricted, Owingsville, 12000445

Boyd County

Catlettsburg, Kentucky, Chesapeake and Ohio Railway Depot, Jct. of Division & Panola Sts., Catlettsburg, 12000446

Fayette County

Spindletop Farm, 3414 Ironworks Pike, Lexington, 12000447

Springview Farm, 3076 Royster Rd., Lexington, 12000448

Jefferson County

Jacob, Jefferson, School, 6517 Jacob School Rd., Prospect, 12000449

McCracken County

Jefferson Street—Fountain Avenue Residential District (Boundary Increase) Generally bounded by Park, Madison, & Fountain Aves., & Harahan, Paducah, 12000451

MAINE

Hancock County

Grand, The, 163, 165, 167, 169, & 173 Main St., Ellsworth, 12000452

Piscataquis County

Monson Community Church, 19 Greenville Rd., Monson, 12000453

York County

Colonial Inn, 145 Shore Rd., Ogunquit, 12000454

MASSACHUSETTS

Essex County

Towne Farm, 55 Towne Rd., Boxford, 12000455

MICHIGAN

Hillsdale County

Deal, J.J. and Son, Carriage Factory, 117 West St., Jonesville, 12000456

St. Clair County

USCGC BRAMBLE (cutter), 2336 Military St., Port Huron, 12000457

Wayne County

Hamtramck Stadium, 3201 Dan St., Hamtramck, 12000458

MINNESOTA

Cass County

Brainerd and Northern Minnesota—Minnesota and International Railway Depot Jct of MN 371 & Barclay Ave., Pine River, 12000459

McLeod County

Merrill, Harry, House,

225 Washington St., W., Hutchinson, 12000460

MISSISSIPPI

Jackson County

Moss Point Historic District, Roughly bounded by Dantzler, Davis, Griffin, Main, Payne, & Weems Sts., Bellview, Ely, McInnis, Torres, & Welch Aves., Moss Point, 12000461

MISSOURI

Greene County

Route 66 Steak 'n Shake, (Route 66 in Missouri MPS) 1158 E. St. Louis St., Springfield, 12000462

OHIO

Hamilton County

Brown—Gorman Farm, 10052 Reading Rd., Evendale, 12000463

Trumbull County

Chalker High School (Boundary Increase), 4432 OH 305, Southington, 12000464

PUERTO RICO

San Juan Municipality

Distrito Historico del Viejo San Juan—Old San Juan Historic District (Boundary Increase), Roughly bounded by Avenidas Munoz Rivera & Ponce de Leon, Paseo de Covadonga and Calles J. A. Corretejer, Recinto Sur, San Juan, 12000465

TENNESSEE

Knox County

Ayres Hall, 1403 Circle Dr., Knoxville, 12000466

Tyson, Gen. Lawrence D., House, 1609 Melrose Ave., Knoxville, 12000467

UTAH

Salt Lake County

Tribune Building 137 S. Main, Salt Lake City, 82005108

VIRGINIA

Richmond Independent city

Manchester Industrial Historic District (Boundary Increase), Parts of Decatur, Everett, Hull, Maury & Stockton Sts., 700 Semmes Ave., 300 E. 2nd St., 300 blk. E. 5th & 6th Sts., Richmond (Independent City), 12000468

WEST VIRGINIA

Wood County

Monroe, Dr. W.W., House, 1703 Park Ave., Parkersburg, 12000469

WYOMING

Big Horn County

Southsider Shelter, Address Restricted, Tensleep, 12000470

A request for removal has been made for the following property:

KENTUCKY

Pulaski County

City Hall, (Pulaski County MRA) 400 E. Mt, Vernon St., Somerset, 84001949

[FR Doc. 2012-17064 Filed 7-12-12; 8:45 am]

BILLING CODE 4310-70-P